DEPARTMENT OF ENERGY

Federal Energy Regulatory Commission

[Docket No. CP01-446-000]

Northern Natural Gas Company; Great Lakes Gas Transmission; Limited Partnership; ANR Pipeline Company; Notice of Joint Application

October 30, 2001.

Take notice that on September 24, 2001, Northern Natural Gas Company (Northern), Great Lakes Gas Transmission Limited Partnership (Great Lakes), and ANR Pipeline Company (ANR) filed a joint application pursuant to section 7(b) of the Natural Gas Act (NGA), as amended, and the rules and regulations of the Federal Energy Regulatory Commission (Commission), requesting permission and approval to abandon service under an individually certificated exchange agreement, all as more fully set forth in the joint application which is on file with the Commission, and open to public inspection.

Specifically, Northern, Great Lakes, and ANR propose to abandon Rate Schedules X-33, X-3, and X-32 contained in there respective FERC Gas Tariffs, Original Volumes No. 2. The parties mutually agree to the termination of the service under these Rate Schedules.

Any questions regarding this application should be directed to Keith L. Petersen, Director, Certificates and Reporting for Northern, 1111 South 103 Street, Omaha, Nebraska 68124, or Gene Fava, Manager, Transportation Administration for Great Lakes, 5250 Corporate Drive, Troy, Michigan 48098 or Dawn McGuire, Attorney, Regulatory Law for ANR, 9 Greenway Plaza, Houston, Texas 77046.

Any person desiring to be herd or to protest said filing should file a motion to intervene or a protest with the Federal Energy Regulatory Commission, 888 First Street, NE., Washington, DC 20426, in accordance with section 385.214 and section 385.211 of the Commission's rules and regulations. All such protests must be filed by November 20, 2001. Protests will be considered by the Commission in determining the appropriate action to be taken, but will not serve to make protestants parties to the proceedings. Any person wishing to become a party must file a motion to intervene. Copies of this filing are on file with the Commission and are available for public inspection. This filing may be viewed on the Commission's web site at http://www.ferc.gov using the “RIMS” link, select “Docket#” and follow the instructions ((202) 208-2222 for assistance). Comments, protests and interventions may be filed electronically via the Internet in lieu of paper. See, 18 CFR 385.2001(a)(1)(iii) and the instructions on the Commission's web site under the “e-Filing” link.

David P. Boergers,
Secretary.

[FR Doc. 01-27670 Filed 11-2-01; 8:45 am]

BILLING CODE 6717-01-P